DEPARTMENT OF STATE

[Public Notice: 6869]

Announcement of Meeting of the International Telecommunication Advisory Committee

Summary: This notice announces a meeting of the International Telecommunication Advisory Subcommittees (ITAC) on October 6, 2011, 2-4 p.m. EDT, at the Department of State, 2201 C Street, NW., Washington, DC 20520, to seek further advice from the telecommunications industry on (a) whether the U.S. should agree that Study Group 15's draft new Recommendation G.tp-oam (Operations, Administration and Maintenance mechanism for MPLS-TP in Packet Transport Network (PTN)) should be considered for approval at the December Study Group meeting, (b) the policy that the U.S. should invoke during the approval process at the meeting, and (c) from the technical standpoint, what is the range of acceptable alternative positions that the U.S. could take during the approval process.

This meeting is open to the public as seating capacity allows. The public will have an opportunity to provide comments at this meeting. People desiring further information on this meeting, including those wishing to request reasonable accommodation to attend the meeting, must contact the Secretariat at minardje@state.gov, by September 30, 2011.

The Department of State customarily makes informal distribution of documents and supports informal discussions of relevant matters on an email listserver named sgb-15. People desiring to join this list should apply to the Secretariat.

Dated: September 14, 2011.
Franz J.G. Zichy,
International Communications & Information Policy, U.S. Department of State.

[FR Doc. 2011-24116 Filed 9-19-11; 8:45 am]

BILLING CODE 4710-07-P